DEPARTMENT OF COMMERCE

Economic Development Administration

National Telecommunications and Information Administration

Bureau of Industry and Security

Minority Business Development Agency

Membership of the Performance Review Board

AGENCY: Economic Development Administration (EDA), National Telecommunications and Information Administration (NTIA), Bureau of Industry and Security (BIS), Minority Business Development Agency (MBDA), Department of Commerce.

ACTION: Notice of membership on the EDA, NTIA, BIS and MBDA's Performance Review Board.

SUMMARY: The EDA, NTIA, BIS and MBDA, Department of Commerce (DOC), announce the appointment of those individuals who have been selected to serve as members of the Performance Review Board. The Performance Review Board is responsible for reviewing performance appraisals and ratings of Senior Executive Service (SES) members and Senior Level (SL) members and making recommendations to the appointing authority on other performance management issues, such as pay adjustments, bonuses and Presidential Rank Awards for SES and SL members. The appointment of these members to the Performance Review Board will be for a period of twenty-four (24) months.

DATES: The period of appointment for those individuals selected for EDA, NTIA, BIS and MBDA's Performance Review Board begins on October 9, 2019.

FOR FURTHER INFORMATION CONTACT: Joan Nagielski, U.S. Department of Commerce, Office of Human Resources Management, Department of Commerce Human Capital Client Services, Office of Employment and Compensation, 14th and Constitution Avenue NW, Room 50013, Washington, DC 20230, at (202)482-6342.

SUPPLEMENTARY INFORMATION: In accordance with 5 U.S.C. 4314 (c) (4), the EDA, NTIA, BIS and MBDA, Department of Commerce (DOC), announce the appointment of those individuals who have been selected to serve as members of EDA, NTIA, BIS and MBDA's Performance Review Board. The Performance Review Board is responsible for (1) reviewing performance appraisals and ratings of Senior Executive Service (SES) and Senior Level (SL)members and (2) making recommendations to the appointing authority on other Performance management issues, such as pay adjustments, bonuses and Presidential Rank Awards for SES and SL members. The Appointment of these members to the Performance Review Board will be for a period of twenty-four (24) months.

The name, position title, and type of appointment of each member of the Performance Review Board are set forth below:

1. Department of Commerce, Bureau of Industry and Security (BIS), John Sonderman, Deputy Director for Office of Export Enforcement, Career SES

2. Department of Commerce, National Telecommunications and Information Administration (NTIA), Peter Tenhula, Deputy Associate Administrator for Spectrum Management, Career SES

3. Department of Commerce, Economic Development Agency (EDA), Angela Martinez, Regional Director for Denver Office, Career SES

4. Department of Commerce, National Telecommunications and Information Administration (NTIA), James Gwinn, Chief Information Officer, First Responder Network Authority, Career SES

5. Department of Commerce, National Telecommunications and Information Administration (NTIA), Steven Molina, Deputy Associate Administrator for Spectrum Planning and Policy, Career SES

6. Department of Commerce, Office of the General Counsel, Office of the Secretary (OGC/OS), Robert Preston II, Chief, Contract Law Division, Career SES

7. Department of Commerce, Economic Development Agency (EDA), Linda Cruz-Carnall, Regional Director for Philadelphia Office, Career SES

8. Department of Commerce, Bureau of Industry and Security (BIS), Karen Nies-Vogel, Director, Office of Exporter Services, Career SES

9. Department of Commerce, International Trade Administration (ITA), Gregory Kalbaugh, Deputy Chief of Staff for Strategic Initiatives, Non-career SES

10. Department of Commerce, International Trade Administration (ITA), Brian Lenihan, Executive Director, Select USA, Non-career SES

Dated: October 3, 2019.
Joan Nagielski,
Human Resources Specialist, Office of Employment and Compensation, Department of Commerce Human Capital Client Services, Office of Human Resources Management, Office of the Secretary, Department of Commerce.

[FR Doc. 2019-21987 Filed 10-8-19; 8:45 am]

BILLING CODE 3510-24-P